DEPARTMENT OF TRANSPORTATION

Federal Aviation Administration

14 CFR Part 23

[Docket No. CE164; Special Conditions No. 23-106-SC]

Special Conditions: Ayres Corporation, Model LM 200, “Loadmaster” Cargo and Baggage Compartment Fire Protection

AGENCY: Federal Aviation Administration (FAA), DOT.

ACTION: Final special conditions.

SUMMARY: These special conditions are issued for the Ayres Corporation Model LM 200 “Loadmaster” airplane. This airplane will have a novel or unusual design feature(s) associated with all-cargo and combination cargo/passenger (COMBI) interior configurations. The applicable airworthiness regulations do not contain adequate or appropriate safety standards for this design feature. These special conditions contain the additional safety standards that the Administrator considers necessary to establish a level of safety equivalent to that established by the existing airworthiness standards.

EFFECTIVE DATE: May 7, 2001.

FOR FURTHER INFORMATION CONTACT: Les Taylor, Federal Aviation Administration, Aircraft Certification Service, Small Airplane Directorate, ACE-111, 901 Locust, Room 301, Kansas City, Missouri 64106; 816-329-4134, fax 816-329-4090.

SUPPLEMENTARY INFORMATION:

Background

On April 16, 1996, Ayres Corporation, Post Office Box 3090, Albany, Georgia 31708, applied for a commuter category, all-cargo type certificate for their new Model LM 200 airplane. In May 1997, they reapplied for passenger and COMBI interior configurations. The Model LM 200 airplane is a nine-passenger, twin-engine airplane. The LM 200 will have all-cargo and COMBI versions.

The Model LM 200 all-cargo and COMBI airplanes are considered a novel design and were not considered when those airworthiness standards were promulgated. The FAA has determined that the existing regulations do not provide adequate or appropriate safety standards for cargo and baggage compartment fire protection in these versions of the LM 200. In order to provide a level of safety that is equivalent to that afforded to occupants of the passenger version, additional airworthiness standards, in the form of additional special conditions, are necessary.

Type Certification Basis

Under the provisions of 14 CFR part 21, § 21.17, Ayres Corporation must show that the Model LM 200 meets the applicable provisions of 14 CFR part 23 as amended by Amendments 23-1 through 23-53, effective April 30, 1998, and any exemptions, equivalent level of safety findings and special conditions.

If the Administrator finds that the applicable airworthiness regulations (i.e., part 23) do not contain adequate or appropriate safety standards for the Model LM 200 because of a novel or unusual design feature, special conditions are prescribed under the provisions of § 21.16.

In addition to the applicable airworthiness regulations and special conditions, the Model LM 200 must comply with the part 23 fuel vent and exhaust emission requirements of 14 CFR part 34, and the part 23 noise certification requirements of 14 CFR part 36; and the FAA must issue a finding of regulatory adequacy pursuant to § 611 of Public Law 92-574, the “Noise Control Act of 1972.”

Special conditions, as appropriate, as defined in § 11.19, are issued in accordance with § 11.38, and become part of the type certification basis in accordance with § 21.17(a)(2).

Special conditions are initially applicable to the model for which they are issued. Should the type certificate for that model be amended later to include any other model that incorporates the same novel or unusual design feature, the special conditions would also apply to the other model under the provisions of § 21.101(a)(1).

Novel or Unusual Design Features

The Model LM 200 will incorporate the following novel or unusual design features: an all-cargo and a COMBI interior configuration.

Discussion of Comments

Notice of proposed special conditions No. 23-01-01-SC for the Ayres Corporation Model LM 200 “Loadmaster” airplanes was published on January 22, 2001 (66 FR 6492). No comments were received, and the special conditions are adopted as proposed.

Applicability

As discussed above, these special conditions are applicable to the Model LM 200 airplane. Should Ayres Corporation apply at a later date for a change to the type certificate to include another model incorporating the same novel or unusual design feature, the special conditions would apply to that model as well under the provisions of § 21.101(a)(1).

Conclusion

This action affects only certain novel or unusual design features on one model of airplane. It is not a rule of general applicability, and it affects only the applicant who applied to the FAA for approval of these features on the airplane.

List of Subjects in 14 CFR Part 23

Aircraft, Aviation safety, Signs and symbols.

Citation

The authority citation for these special conditions is as follows:

Authority: 49 U.S.C. 106(g), 40113 and 44701; 14 CFR 21.16 and 21.17; and 14 CFR 11.28 and 11 49.

The Special Conditions

Accordingly, pursuant to the authority delegated to me by the Administrator, the following special conditions are issued as part of the type certification basis for the Ayres Corporation Model LM 200 airplane applicable to the all-cargo and COMBI interior configurations.

In addition to the part 23 regulations required by the certification basis of the airplane, the following are also required for cargo or baggage compartments:

(a) Flight tests must demonstrate means to exclude hazardous quantities of smoke, flames, or extinguishing agent from any compartment occupied by crew or passengers.

(b) Cargo compartments shall have either fire or smoke detection provisions, or both, unless the compartment location is such that a fire can be easily detected by the pilots while seated at their duty stations. The cargo and baggage fire protection must be in accordance with § 23.855 as well as the following:

1. The detection system must provide a visual indication to the flight crew within one minute after the start of a fire.

2. The system must be capable of detecting a fire at a temperature significantly below that at which the structural integrity of the airplane is substantially decreased.

3. There must be means to allow the crew to check the functioning of each fire detector circuit while in flight.

4. The detection system effectiveness must be shown for all approved operating configurations and conditions.

(c) The flight crew must have means to shut off the ventilating airflow to or within the compartment, from the pilot's station, on an all-cargo configuration.

(d) Passenger and COMBI configurations where the cargo or baggage compartment are not accessible to the flightcrew, must have an approved, built-in fire extinguishing system. The built-in fire extinguishing system shall be controllable from the pilot's station. There must be means to control ventilation and drafts within an inaccessible cargo or baggage compartment so the extinguishing agent can control any fire that may start in the compartment. The built-in fire extinguishing system must be installed so that no extinguishing agent likely to enter the personnel compartments will be hazardous to the occupants. The discharge of the fire extinguishing system must not cause structural damage. The capacity of the extinguishing system must be adequate for any fire likely to occur in the compartment where used. Consideration must be given to the volume of the compartment and the ventilation rate.

(e) In addition to the fire extinguishers required by § 23.851, a hand fire extinguisher must be readily accessible for use in each cargo and baggage compartment that is accessible to crewmembers in flight. Hazardous quantities of smoke, flames or extinguishing agent must not enter any compartment occupied by crew or passengers, when the access to that compartment is used.

(f) Protective breathing equipment must be installed for crewmembers in each crewmember compartment. Protective breathing equipment must:

1. Be designed to protect the flightcrew from smoke, carbon dioxide and other harmful gases at the pilot's station and while combating fires in cargo or baggage compartments.

2. Have masks that cover the eyes, nose and mouth; or masks that cover the nose and mouth plus accessory equipment to cover the eyes.

3. Allow the flightcrew to use the radio equipment and to communicate with each other while at their assigned stations.

4. Not cause any appreciable adverse effect on vision and must allow corrective glasses to be worn.

5. Supply protective oxygen of 15 minutes duration per crewmember at a pressure altitude of 8,000 feet with a respiratory minute volume of 30 liters per minute BTPD (BTPD refers to body temperature conditions (that is 37 °C at ambient pressure, dry)). If a demand oxygen system is used, a supply of 300 liters of free oxygen at 70 °F. and 760 mm. Hg. pressure is considered to be adequate to meet the 15-minute-duration requirement at the prescribed altitude and minute volume. If a continuous flow protective breathing system is used (including a mask with a standard rebreather bag), a flow rate of 60 liters per minute at 8,000 feet (45 liters per minute at sea level) and a supply of 600 liters of free oxygen at 70 °F and 760 mm. Hg. pressure is considered to be adequate to meet the 15-minute-duration requirement at the prescribed altitude and minute volume.

6. Be free from hazards in itself, in its method of operation, and in its effect upon other components.

7. Have a means to allow the crew to readily determine, during flight, the quantity of oxygen available in each source of supply.

Issued in Kansas City, Missouri on March 28, 2001.
Michael Gallagher,
Manager, Small Airplane Directorate, Aircraft Certification Service.

[FR Doc. 01-8513 Filed 4-5-01; 8:45 am]

BILLING CODE 4910-13-P